DEPARTMENT OF COMMERCE

International Trade Administration, North American Free-Trade Agreement (NAFTA), Article 1904 Binational Panel Reviews

AGENCY: NAFTA Secretariat, United States Section, International Trade Administration, Commerce.

ACTION: Notice of decision of panel.

SUMMARY: On January 17, 2007 the binational panel issued its decision in the review of the final results of the sunset review of antidumping order made by the International Trade Administration, respecting Oil Country Tubular Goods from Mexico, NAFTA Secretariat File Number USA-MEX-2001-1904-03. The binational panel issued its fourth remand of the International Trade Administration's re-determination on remand. Copies of the panel decision are available from the U.S. Section of the NAFTA Secretariat.

FOR FURTHER INFORMATION CONTACT: Caratina L. Alston, United States Secretary, NAFTA Secretariat, Suite 2061, 14th and Constitution Avenue, NW., Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The panel issued its fourth remand to the International Trade Administration's determination respecting Oil Country Tubular Goods from Mexico. The panel directed the Department to:

1. Reconsider its likelihood determination and either issue a determination of no likelihood or give a reasoned analysis to support the conclusion that TAMSA's dumping is likely to continue or recur on revocation of the antidumping duty order.

2. In the event that the Department reissues a likelihood determination, to explain in detail why the elimination of TAMSA's foreign debt does not outweigh the likelihood presumption derived from the post-order reduction of TAMSA's exports. In its evaluation of TAMSA's “other factors,” the Department is directed to utilize the actual financial expense ratio established in the record of this proceeding. The Department is also directed to provide an explanation supported by sunset review law indicating why TAMSA's zero margin calculation have no predictive value.

Further, the panel stated that they will not affirm the Department's Fourth Re-determination if the Department continues to be disrespectful of the Panel's review authority under Chapter 19 of the NAFTA by issuing affirmative remand determinations which cannot be supported by the record and that continue to rely on evidence that the Panel has already held to be insufficient.

The Department was directed to issue its Final Re-determination on Remand within twenty days from the date of the decision or not later than February 6, 2007.

Dated: January 17, 2007.
Caratina L. Alston,
U.S. Secretary, NAFTA Secretariat.

[FR Doc. E7-822 Filed 1-19-07; 8:45 am]

BILLING CODE 3510-GT-P